DEPARTMENT OF ENERGY

Federal Energy Regulatory Commission

[Project No. 12581-001]

Cambria Somerset Authority; Notice of Surrender of Preliminary Permit

July 26, 2006.

Take notice that Cambria Somerset Authority, permittee for the proposed Que Pumped Storage Project, has requested that its preliminary permit be terminated. The permit was issued on December 15, 2005, and would have expired on November 30, 2008.¹ The project would have been located on the Quemahoning Creek, in Somerset County, Pennsylvania.

¹ 113 FERC ¶ 62,214.

The permittee filed the request on July 14, 2006, and the preliminary permit for Project No. 12581 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

[FR Doc. E6-12378 Filed 8-1-06; 8:45 am]

BILLING CODE 6717-01-P